DEPARTMENT OF VETERANS AFFAIRS

38 CFR Part 36

RIN 2900-AE20; 2900-AE60

Loan Guaranty: Title Evidence Requirements and Occupancy Requirements for Conveyance of Properties to VA by Holders; Acceptance of Partial Payments; Indemnification of Default

AGENCY: Department of Veterans Affairs.

ACTION: Proposed rules: withdrawal.

SUMMARY: This document withdraws the proposal to amend the loan guaranty regulations that was published in the Federal Register on August 6, 1990 (55 FR 31847). We proposed to authorize the Secretary of Veterans Affairs to specify the title documentation required from the holder when VA acquires a property which was financed with a VA-guaranteed loan that has been terminated and to authorize the Secretary of Veterans Affairs to establish a date by which VA must receive such title documentation from the holder. Further, we proposed to require that a property acquired by VA be vacant when conveyed to VA unless someone properly in possession by virtue of a redemption period occupies it or VA otherwise directs the holder. This document also withdraws the proposal to amend the loan guaranty regulations that was published in the Federal Register on March 2, 1994 (59 FR 9944). In the March 2, 1994 document, we proposed to change the regulations by requiring that the mortgage holder provide notice to VA when refusing to accept partial payment on a loan in default and to clarify when a veteran is liable to VA for a loss due to a loan default. We are reconsidering the issues raised in both proposed rules in light of changes that have occurred in the industry since the proposals were promulgated. These issues may be the subject of a future rulemaking proceeding.

FOR FURTHER INFORMATION CONTACT: Mr. Richard Fyne, Assistant Director for Loan Management (261), Loan Guaranty Service, Veterans Benefits Administration, Department of Veterans Affairs, 810 Vermont Avenue, NW., Washington, DC 20420, phone (202) 273-7380. (This is not a toll-free number.)

Approved: February 15, 2001.
Anthony J. Principi,
Secretary of Veterans Affairs.

[FR Doc. 01-11745 Filed 5-9-01; 8:45 am]

BILLING CODE 8320-01-P